DEPARTMENT OF THE TREASURY

Customs Service

Revocation of Customs Broker Licenses

AGENCY: Customs Service, Department of the Treasury.

ACTION: Customs Broker License Revocations.

SUMMARY: Pursuant to section 641 of the Tariff Act of 1930 as amended (19 U.S.C. 1641) and the Customs Regulations (19 CFR Part 111), the following Customs broker licenses are revoked. Because previous publication of some records cannot be readily verified, the records are now being published to ensure Customs compliance with administrative requirements.

Name | License | Port
Beer, Brian | 11541 | San Francisco
Brinkley, David H | 09042 | Miami
Cohen, George M | 03467 | New York
Davila, Jamie | 06093 | New York
Ramos, Jose A | 05284 | Dallas/Fort Worth
Unimex Brokerage, Inc | 12585 | El Paso

Dated: March 8, 2002.
Bonni G. Tischler,
Assistant Commissioner, Office of Field Operations.

[FR Doc. 02-7533 Filed 3-28-02; 8:45 am]

BILLING CODE 4820-02-P